DEPARTMENT OF TRANSPORTATION

Federal Aviation Administration

14 CFR Part 71

[Airspace Docket No. 01-AGL-17]

Modification of Class E Airspace; Athens, OH

AGENCY: Federal Aviation Administration (FAA), DOT.

ACTION: Direct final rule; confirmation of effective date.

SUMMARY: This document confirms the effective date of a direct final rule which modifies Class E airspace, Athens, OH.

EFFECTIVE DATE: The direct final rule published at 67 FR 36807 is effective 9091 UTC, October 3, 2002.

FOR FURTHER INFORMATION CONTACT: Denis C. Burke, Airspace Branch, AGL-520, Air Traffic Division, Federal Aviation Administration, 2300 East Devon Avenue, Des Plaines, Illinois 60018, telephone (847-294-7568).

SUPPLEMENTARY INFORMATION: The FAA published this direct final rule with a request for comments in the Federal Register on Tuesday, May 28, 2002, (67 FR 36807). The FAA uses the direct final rulemaking procedure for a noncontroversial rule where the FAA believes that there will be no adverse public comment. This direct final rule advised the public that no adverse comments were anticipated, and that unless a written adverse comment, or a written notice of intent to submit such an adverse comment, were received within the comment period, the regulation would become effective on October 3, 2002. No adverse comments were received, and, thus, this action confirms that this direct final rule will be effective on that date.

* * * * *

Issued in Des Plaines, Illinois, on September 4, 2002.
Nancy B. Shelton,
Manager, Air Traffic Division, Great Lakes Region.

[FR Doc. 02-23834 Filed 9-18-02; 8:45 am]

BILLING CODE 4910-13-M